DEPARTMENT OF DEFENSE

48 CFR Parts 204, 235, and 252

[DFARS Case 2004-D010]

Defense Federal Acquisition Regulation Supplement; Export-Controlled Information and Technology

AGENCY: Department of Defense (DoD).

ACTION: Proposed rule; extension of comment period.

SUMMARY: DoD is extending the comment period for the proposed rule published at 70 FR 39976 on July 12, 2005. The proposed rule contains requirements for preventing unauthorized disclosure of export-controlled information and technology under DoD contracts. The comment period is extended to accommodate significant interest expressed with regard to the proposed rule.

DATES: The ending date for submission of comments is extended to October 12, 2005.

FOR FURTHER INFORMATION CONTACT: Ms. Amy Williams, Defense Acquisition Regulations Council, OUSD(AT&L)DPAP(DAR), IMD 3C132, 3062 Defense Pentagon, Washington, DC 20301-3062. Telephone (703) 602-0328; facsimile (703) 602-0350. Please cite DFARS Case 2004-D010.

Michele P. Peterson,
Editor, Defense Acquisition Regulations System.

[FR Doc. 05-15930 Filed 8-10-05; 8:45 am]

BILLING CODE 5001-08-P